DEPARTMENT OF THE INTERIOR

Bureau of Land Management

[LLNMP0000 L13100000.PP0000 18XL1109AF]

Notice of Public Meeting, Pecos District Resource Advisory Council, New Mexico

AGENCY: Bureau of Land Management, Interior.

ACTION: Notice of public meeting.

SUMMARY: In accordance with the Federal Land Policy and Management Act (FLPMA) of 1976, the Federal Advisory Committee Act (FACA) of 1972, and the Federal Lands Recreation Enhancement Act of 2004, the U.S. Department of the Interior, Bureau of Land Management (BLM) Pecos District Resource Advisory Council (RAC) will meet as indicated below.

DATES: The Pecos District RAC will hold a public meeting on Wednesday, December 6, 2017, from 9:00 a.m. to 3:00 p.m.

ADDRESSES: The Pecos District RAC will meet at the BLM Roswell Field Office, 2909 West Second Street, Roswell, NM 88201.

FOR FURTHER INFORMATION CONTACT: Glen Garnand, Pecos District, New Mexico, 2909 West Second Street, Roswell, NM 88201, (575) 627-0209. Persons who use a telecommunications device for the deaf (TDD) may contact Mr. Garnand by calling the Federal Relay Service (FRS) at (800) 877-8339. The FRS is available 24 hours a day, 7 days a week, to leave a message or question with Mr. Garnand. You will receive a reply during normal business hours.

SUPPLEMENTARY INFORMATION: The 10-member RAC advises the Secretary of the Interior, through the BLM, on a variety of planning and management issues associated with public land management in New Mexico. The meeting agenda will include a presentation on the Draft Carlsbad Resource Management Plan/Environmental Impact Statement; Overviews on the Proposed Recreation Fee at the Rob Jaggers Campground, the Rio Bonito Wetlands Proposed Project, and District workload priorities, and updates on Area of Critical Environmental Concern guidance (ACEC) Plan, Fort Stanton Cave, and Oil and Gas Regulations Update. Additional agenda topics or changes to the agenda will be announced in local news releases. More information is available at https://www.blm.gov/site-page/get-involved-pecos-district-rac. RAC meetings are open to the public.

Public Disclosure of Comments: The meeting will include a public comment period which will begin at 2:00 p.m. and continue to 2:30 p.m. Depending on the number of persons wishing to comment and time available, the amount of time for individual oral comments may be limited. To allow for full consideration of information by the council members, written comments must be provided to Glen Garnand, Pecos District, New Mexico, 2909 West Second Street, Roswell, NM 88201; or by telephone (575) 627-0209, no later than December 5, 2017, to be made available to the RAC at the December 6, 2017 meeting. All written comments received will be provided to the council members.

Before including your address, phone number, email address, or other personal identifying information in your comments, please be aware that your entire comment, including your personal identifying information, may be made publicly available at any time. While you can ask us in your comment to withhold your personal identifying information from public review, we cannot guarantee that we will be able to do so. Individuals who plan to attend and need special assistance, such as sign language interpretation, tour transportation or other reasonable accommodations, should contact the BLM as provided above.

Authority: 43 CFR 1784.4-2.

Melanie Barnes,
Deputy State Director, Lands and Resources.

[FR Doc. 2017-22732 Filed 10-19-17; 8:45 am]

BILLING CODE 4310-FB-P